DEPARTMENT OF HEALTH AND HUMAN SERVICES

Centers for Disease Control and Prevention

[30Day-23-1215]

Agency Forms Undergoing Paperwork Reduction Act Review

In accordance with the Paperwork Reduction Act of 1995, the Centers for Disease Control and Prevention (CDC) has submitted the information collection request titled “Awardee Lead Profile Assessment (ALPA)” to the Office of Management and Budget (OMB) for review and approval. CDC previously published a “Proposed Data Collection Submitted for Public Comment and Recommendations” notice on December 20, 2022, to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Awardee Lead Profile Assessment (ALPA) (OMB Control No. 0920-1215, Exp. 03/31/2024)—Revision—National Center for Environmental Health (NCEH), Centers for Disease Control and Prevention (CDC).

Background and Brief Description

The Centers for Disease Control and Prevention (CDC) is requesting Paperwork Reduction Act (PRA) clearance for a three-year revised Information Collection Request (ICR) titled “Awardee Lead Profile Assessment (ALPA)” (OMB Control No. 0920-1215; Exp. 03/31/2024). The goal of this ICR is to build on the CDC's existing childhood lead poisoning prevention program. CDC requires that ongoing and new CDC Childhood Lead Poisoning Prevention Programs (CLPPPs), including the FY21 “Childhood Lead Poisoning Prevention and Surveillance of Blood Lead Levels in Children” (CDC-RFA-EH21-2102), complete the ALPA annually. This annual information collection will be used to identify jurisdictional legal frameworks governing CDC-funded CLPPPs in the United States and strategies for implementing childhood lead poisoning prevention activities. CDC can use this information to inform guidance, resource development, and technical assistance activities in support of the ultimate goal, which is eliminating lead exposure in children. The dissemination of these ALPA results will ensure that both funded and non-funded jurisdictions are able to: (1) identify policies and other factors that support or hinder childhood lead poisoning prevention efforts; (2) understand what strategies are being used by funded public health agencies to implement childhood lead poisoning prevention activities; and (3) use this knowledge to develop and apply similar strategies to support the national agenda to eliminate childhood lead poisoning. This program management information collection has been revised in several ways, including the addition of new answer options and questions to understand usage of the updated blood lead reference value (BLRV).

CDC will use one data collection mode, a web survey. A change in the mode of collection will not affect the total time burden requested as the time per response is the same for either mode, and the time to take the survey has remained consistent from 2021 estimates (47 minutes per response) despite revisions to the survey. This time estimate per response is based on pilot tests of the revised survey among eight respondents, and includes the time needed to review the ALPA Training Manual.

In total, the annual number of respondents remains unchanged at 75, and the annual time burden requested remains at 59 hours. There are no costs to respondents other than their time. The respondents are participating in this survey as a program requirement.

Estimated Annualized Burden Hours
Type of respondents | Form name | Number of respondents | Number of responses per respondent | Average burden per response (in hours)
State or Local Governments (or their bona fide fiscal agents) | ALPA Web Survey | 75 | 1 | 47/60

Jeffrey M. Zirger,
Lead, Information Collection Review Office, Office of Scientific Integrity, Office of Science, Centers for Disease Control and Prevention.

[FR Doc. 2023-06736 Filed 3-30-23; 8:45 am]

BILLING CODE 4163-18-P